DEPARTMENT OF VETERANS AFFAIRS

[OMB Control No. 2900-New]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 9, 2002.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316. Please refer to “OMB Control No. 2900-New” in any correspondence.

SUPPLEMENTARY INFORMATION: Title: Questionnaire For Coroners and Medical Examiners, VA Form 21-0766.

OMB Control Number: 2900-New.

Type of Review: New collection.

Abstract: VA Form 21-0766 is used by medical examiners and coroners to help identify unclaimed decedents as veterans who are entitled to burial benefits. The information collected is needed to determine how often medical examiners and coroners attempt to verify veteran status, how long records of decedents are maintained and who the medical examiners and coroners contact to verify veteran status.

An agency may not conduct or sponsor, and a person is not required to respond to a collection of information unless it displays a currently valid OMB control number. The Federal Register Notice with a 60-day comment period soliciting comments on this collection of information was published on August 14, 2002, at page 53046.

Affected Public: State, Local or Tribal Government.

Estimated Annual Burden: 525 hours.

Estimated Average Burden Per Respondent: 10 minutes.

Frequency of Response: On occasion.

Estimated Number of Respondents: 3,158.

Dated: October 15, 2002.
By direction of the Secretary:
Ernesto Castro,
Director, Records Management Service.

[FR Doc. 02-28272 Filed 11-6-02; 8:45 am]

BILLING CODE 8320-01-P